ENVIRONMENTAL PROTECTION AGENCY

[FRL-9460-8; Docket ID No. EPA-HQ-ORD-2011-0485]

Vulnerability Assessments in Support of the Climate Ready Estuaries Program: A Novel Approach Using Expert Judgment, Volume I: Results for the San Francisco Estuary Partnership and Volume II: Results for the Massachusetts Bays Program

AGENCY: Environmental Protection Agency (EPA).

ACTION: Notice of Public Comment Period and Letter Peer-Review.

SUMMARY: EPA is announcing a 30-day public comment period for the draft documents titled, Vulnerability Assessments in Support of the Climate Ready Estuaries Program: A Novel Approach Using Expert Judgment, Volume I: Results for the San Francisco Estuary Partnership (EPA/600/R-11/058a) and Vulnerability Assessments in Support of the Climate Ready Estuaries Program: A Novel Approach Using Expert Judgment, Volume II: Results for the Massachusetts Bays Program (EPA/600/R-11/058b). The EPA also is announcing that Eastern Research Group, an EPA contractor for external scientific peer review, will select two independent groups of experts to conduct a letter peer-review of the same draft documents. The documents were prepared by the National Center for Environmental Assessment within EPA's Office of Research and Development, in collaboration with the San Francisco Estuary Partnership (SFEP), the San Francisco Bay Conservation and Development Commission, and the Massachusetts Bays Program (MBP). The reports are pilot ecological vulnerability assessments using a novel methodology, based on expert judgment, to inform adaptation planning under EPA's Climate Ready Estuaries Program. To demonstrate the novel methodology, two ecosystem processes were selected for each assessment: sediment retention in salt marshes (for both SFEP and MBP) and community interactions (of wading shorebirds and their mudflat prey for SFEP, and of the saltmarsh sharp-tailed sparrow and key species of nesting habitat grasses for MBP). This study assesses (1) Relationships among key physical and ecological variables that regulate each process, (2) relative sensitivities of these relationships under current and future climate change scenarios, (3) degree of confidence about these relationships, and (4) implications for management. The results of this study are designed to support the SFEP's and MBP's adaptation planning efforts as well as those of other estuary managers.

EPA intends to forward the public comments that are submitted in accordance with this notice to the external peer-reviewers for their consideration during the letter review. When finalizing the draft document, EPA intends to consider any public comments received in accordance with this notice. EPA is releasing these draft documents for the purpose of pre-dissemination peer review under applicable information quality guidelines. These documents have not been formally disseminated by EPA. They do not represent and should not be construed to represent any Agency policy or determination.

The draft documents are available via the Internet on the NCEA home page under the Recent Additions and the Data and Publications menus at http://www.epa.gov/ncea.

DATES: The 30-day public comment period begins September 8, 2011, and ends October 11, 2011. Technical comments should be in writing and must be received by EPA by October 11, 2011.

ADDRESSES: The two draft documents, Vulnerability Assessments in Support of the Climate Ready Estuaries Program: A Novel Approach Using Expert Judgment, Volume I: Results for the San Francisco Estuary Partnership and Vulnerability Assessments in Support of the Climate Ready Estuaries Program: A Novel Approach Using Expert Judgment, Volume II: Results for the Massachusetts Bays Program, are available primarily via the Internet on the National Center for Environmental Assessment's home page under the Recent Additions and the Data and Publications menus at http://www.epa.gov/ncea. A limited number of paper copies are available from the Information Management Team, NCEA; telephone: 703-347-8561; facsimile: 703-347-8691. If you are requesting a paper copy, please provide your name, mailing address, the EPA number of the requested publication, and the document title, Vulnerability Assessments in Support of the Climate Ready Estuaries Program: A Novel Approach Using Expert Judgment, Volume I: Results for the San Francisco Estuary Partnership or Vulnerability Assessments in Support of the Climate Ready Estuaries Program: A Novel Approach Using Expert Judgment, Volume II: Results for the Massachusetts Bays Program.

Comments may be submitted electronically via http://www.regulations.gov, by mail, by facsimile, or by hand delivery/courier. Please follow the detailed instructions provided in the SUPPLEMENTARY INFORMATION section of this notice.

FOR FURTHER INFORMATION CONTACT: For information on the public comment period, contact the Office of Environmental Information Docket; telephone: 202-566-1752; facsimile: 202-566-1753; or e-mail: ORD.Docket@epa.gov.

For technical information, contact Jordan West, NCEA; telephone: 703-347-8584; facsimile: 703-347-8694; or e-mail: west.jordan@epa.gov.

SUPPLEMENTARY INFORMATION:

I. Information About the Project/Document

For this project, an exercise was designed to elicit judgments from experts in a workshop setting, regarding climate change effects on two ecosystem processes for each pilot assessment: sediment retention and community interactions. This method is based on a novel application of expert elicitation (a process for obtaining the judgments of groups of experts to characterize each expert's beliefs about relationships of interest) for use in a two-day workshop using two groups of seven expert participants each. EPA has investigated the utility of expert elicitation and provides recommendations for “best practices” through an Expert Elicitation Task Force White Paper (see http://www.epa.gov/spc/expertelicitation/index.htm).

The exercise involved elicitation of qualitative judgments about the sensitivity of ecosystem processes to physical and ecological variables, using “influence diagrams” to depict the relationships among variables. For each ecosystem process, an influence diagram was developed that identified the key process variables and their interrelationships (influences). Using a coding scheme, each expert characterized the type and sensitivity of each influence under both current and future climate change scenarios.

The experts also discussed the high impact of certain influences on sediment retention and community interactions, relative to other influences in the diagram, and the potential for threshold changes.

These reports show how climate-sensitive pathways can be identified and linked to management options in the context of planning documents in order to support adaptation to climate change.

II. How To Submit Technical Comments to the Docket at http://www.regulations.gov

Submit your comments, identified by Docket ID No. EPA-HQ-ORD 2011-0485, by one of the following methods:

• http://www.regulations.gov: Follow the on-line instructions for submitting comments;

• E-mail: ORD.Docket@epa.gov;

• Fax: 202-566-1753;

• Mail: Office of Environmental Information (OEI) Docket (Mail Code: 2822T), U.S. Environmental Protection Agency, 1200 Pennsylvania Ave., NW., Washington, DC 20460. The phone number is 202-566-1752; and

• Hand Delivery: The OEI Docket is located in the EPA Headquarters Docket Center, Room 3334 EPA West Building, 1301 Constitution Ave., NW., Washington, DC. The EPA Docket Center's Public Reading Room is open from 8:30 a.m. to 4:30 p.m., Monday through Friday, excluding legal holidays. The telephone number for the Public Reading Room is 202-566-1744. Deliveries are only accepted during the docket's normal hours of operation, and special arrangements should be made for deliveries of boxed information.

If you provide comments by mail or hand delivery, please submit one unbound original with pages numbered consecutively and three copies of the comments. For attachments, provide an index, number pages consecutively with the comments, and submit an unbound original and three copies.

Instructions: Direct your comments to Docket ID No. EPA-HQ-ORD-2011-0485. Please ensure that your comments are submitted within the specified comment period. Comments received after the closing date will be marked “late,” and may only be considered if time permits. It is EPA's policy to include all comments it receives in the public docket without change and to make the comments available online at http://www.regulations.gov, including any personal information provided, unless a comment includes information claimed to be Confidential Business Information (CBI) or other information whose disclosure is restricted by statute. Do not submit information that you consider to be CBI or otherwise protected through http://www.regulations.gov or e-mail. The http://www.regulations.gov Web site is an “anonymous access” system, which means EPA will not know your identity or contact information unless you provide it in the body of your comment. If you send an e-mail comment directly to EPA without going through http://www.regulations.gov, your e-mail address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm.

Docket: Documents in the docket are listed in the http://www.regulations.gov index. Although listed in the index, some information is not publicly available, e.g., CBI or other information whose disclosure is restricted by statute. Certain other materials, such as copyrighted material, are publicly available only in hard copy. Publicly available docket materials are available either electronically at http://www.regulations.gov or in hard copy at the OEI Docket in the EPA Headquarters Docket Center.

Dated: August 12, 2011.
Darrell A. Winner,
Acting Director, National Center for Environmental Assessment.

[FR Doc. 2011-22993 Filed 9-7-11; 8:45 am]

BILLING CODE 6560-50-P